DEPARTMENT OF TRANSPORTATION

Federal Highway Administration

Environmental Impact Statement: Charleston County, SC

AGENCY: Federal Highway Administration (FHWA), USDOT.

ACTION: Notice of Intent.

SUMMARY: The FHWA is issuing this notice to advise the public that an environmental impact statement will be prepared for a proposed highway project in Charleston County, South Carolina.

FOR FURTHER INFORMATION CONTACT: Mr. Robert Lee, Division Administrator, Federal Highway Administration, 1835 Assembly Street, Suite 1270, Columbia, South Carolina 29201, Telephone: 803.765.5411, E-mail: bob.lee@fhwa.dot.gov.

SUPPLEMENTARY INFORMATION: The FHWA, in cooperation with the South Carolina Department of Transportation (SCDOT) and Charleston County will prepare an environmental impact statement (EIS) on a proposed Mark Clark Expressway (I-526) located in Charleston County, South Carolina. The U.S. Army Corps of Engineers will serve as a cooperating agency in developing the EIS. Completing I-526 (Mark Clark Expressway) would improve mobility in the areas by serving the anticipated future traffic growth. The Interstate 526 extension project is approximately 7.1 miles long beginning at U.S. 17 (Savannah Highway) and terminating at SC 171 (Folly Road).

The FHWA and SCDOT are seeking input as a part of the scoping process to assist in identifying issues relative to this project. Letters describing the proposed action and soliciting comments will be sent to appropriate Federal, State, and local agencies, and to private organizations and citizens who have previously expressed or are known to have interest in this proposal. A formal public scoping meeting will be held between February and March 2008. A public meeting will be held between September and October 2008. In addition, a public hearing will be held after the approval of the Draft Environmental Impact Statement (DEIS). Public notice will be given indicating the time and place of the meetings and hearing. The DEIS will be available for public and agency review and comment prior to the public hearing.

To ensure that the full range of issues related to this proposed action are addressed and all significant issues identified, comments, and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program).

Issued on January 3, 2008.
Robert Lee,
Division Administrator, Columbia, South Carolina.

[FR Doc. E8-246 Filed 1-8-08; 8:45 am]

BILLING CODE 4910-22-P